DEPARTMENT OF HOMELAND SECURITY

Coast Guard

[Docket No. USCG-2017-1003]

National Maritime Security Advisory Committee

AGENCY: U.S. Coast Guard, Department of Homeland Security.

ACTION: Notice of Federal Advisory Committee teleconference meeting.

SUMMARY: The National Maritime Security Advisory Committee will meet via teleconference, to review and discuss the results of the “Navigation and Vessel Inspection Circular 05-17; Guidelines for Addressing Cyber Risks at Maritime Transportation Security Act Regulated Facilities” task. This teleconference will be open to the public.

DATES: The Committee will meet on Thursday, December 14, 2017, from 1:00 p.m. to 2:30 p.m. This teleconference may close early if all business is finished.

ADDRESSES: The teleconference will be broadcast via a web enabled interactive online format and teleconference line. To participate via teleconference, dial 1-202-475-4000; the passcode to join is 764 990 20#. Additionally, if you would like to participate in this teleconference via the online web format, please log onto https://share.dhs.gov/nmsac/ and follow the online instructions to register for this meeting. If you encounter technical difficulties, contact Mr. Ryan Owens at (202) 302-6565.

For information on facilities or services for individuals with disabilities, or to request special assistance at the meetings, contact the individual listed in FOR FURTHER INFORMATION CONTACT below as soon as possible.

Instructions: You are free to submit comments at any time, including orally at the meetings, but if you want Committee members to review your comment before the meetings, please submit your comments no later than December 7, 2017. We are particularly interested in comments on the issues in the “Agenda” section below. You must include “Department of Homeland Security” and the docket number USCG-2017-1003. Written comments must be submitted using the Federal eRulemaking Portal: http://www.regulations.gov. If you encounter technical difficulties, contact the individual in the FOR FURTHER INFORMATION CONTACT section of this document. Comments received will be posted without alteration at http://www.regulations.gov including any personal information provided. You may review a Privacy Act and Security Notice for the Federal Docket Management System at http://www.regulations.gov/privacyNotice.

Docket Search: For access to the docket to read documents or comments related to this notice, go to http://www.regulations.gov, and use “USCG-2017-1003” in the “Search” box, press Enter, and then click on the item you wish to view.

FOR FURTHER INFORMATION CONTACT: Mr. Ryan Owens, Alternate Designated Federal Officer of the National Maritime Security Advisory Committee, 2703 Martin Luther King Jr. Avenue SE., Washington, DC 20593, Stop 7581, Washington, DC 20593-7581; telephone 202-372-1108 or email ryan.f.owens@uscg.mil.

SUPPLEMENTARY INFORMATION: Notice of this meeting is in compliance with the Federal Advisory Committee Act, (Title 5, United States Code, Appendix). The National Maritime Security Advisory Committee operates under the authority of 46 U.S.C. 70112. The National Maritime Security Advisory Committee provides advice, consults with, and makes recommendations to the Secretary of Homeland Security, via the Commandant of the Coast Guard, on matters relating to national maritime security.

Agenda of Meeting

(1) Results of the Cyber Security Working Group

The Committee will meet to review and discuss the results of the Cyber Security Working Group to address the questions posed to the Committee at the September public meeting in regards to the Navigation and Vessel Inspection Circular 05-17; Guidelines for Addressing Cyber Risks at Maritime Transportation Security Act Regulated Facilities.

(2) Public Comment Period

A copy of all meeting documentation will be available at https://homeport.uscg.mil/NMSAC by December 7, 2017.

There will be a public comment period at the end of the meeting. Speakers are requested to limit their comments to 5 minutes and keep their remarks to the topic of the Navigation and Vessel Inspection Circular 05-17; Guidelines for Addressing Cyber Risks at Maritime Transportation Security Act Regulated Facilities. Please note that the public comment period may end before the period allotted, following the last call for comments. Contact the individual listed in the FOR FURTHER INFORMATION CONTACT section above to register as a speaker.

Dated: November 17, 2017.
Jennifer F. Williams,
Captain, U.S. Coast Guard, Director of Inspections and Compliance.

[FR Doc. 2017-25404 Filed 11-22-17; 8:45 am]

BILLING CODE 9110-04-P